NUCLEAR REGULATORY COMMISSION

[Docket Nos. 52-027 and 52-028; NRC-2008-0441]

Virgil C. Summer Nuclear Station, Units 2 and 3; South Carolina Electric & Gas Company Annex and Radwaste Building Changes; Correction

AGENCY: Nuclear Regulatory Commission.

ACTION: Exemption and combined license amendment; correction.

SUMMARY: The U.S. Nuclear Regulatory Commission (NRC) is correcting a notice that was published in the Federal Register (FR) on March 22, 2017, granting an exemption to allow a departure from the certification information of Tier 1 of the generic design control document and issuing License Amendment No. 59 to Combined Licenses NPF-93 and NPF-94. This action is necessary to correct the Federal rulemaking Web site, www.regulations.gov, Docket ID.

DATES: The correction is effective March 31, 2017.

ADDRESSES: Please refer to Docket ID NRC-2008-0441 when contacting the NRC about the availability of information regarding this document. You may obtain publicly-available information related to this document using any of the following methods:

• Federal Rulemaking Web site: Go to http://www.regulations.gov and search for Docket ID NRC-2008-0441. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Paul Kallan, Office of New Reactors, U.S. Nuclear Regulatory Commission, Washington, DC 20555-0001; telephone: 301-415-2809; email: Paul.Kallan@nrc.gov.

SUPPLEMENTARY INFORMATION: In the FR on March 22, 2017, in FR Doc. 2017-05686, on page 14757, in the third column, in the heading, in the first sentence of the ADDRESSES section, and the first bullet in the ADDRESSES section, correct “NRC-2008-0252” to read “NRC-2008-0441.”

Dated at Rockville, Maryland, this 27th day of March 2017.
For the Nuclear Regulatory Commission.
Cindy Bladey,
Chief, Rules, Announcements, and Directives Branch, Division of Administrative Services, Office of Administration.

[FR Doc. 2017-06368 Filed 3-30-17; 8:45 am]

BILLING CODE 7590-01-P